DEPARTMENT OF LABOR

Employment and Training Administration

[TA-W-37,675 and 675A]

Hagale Industries, Inc., MO; Amended Certification Regarding Eligibility To Apply for Worker Adjustment Assistance

In accordance with Section 223 of the Trade Act of 1974 (19 USC 2273) the Department of Labor issued a Notice of Certification Regarding Eligibility to apply for Worker Adjustment Assistance on July 7, 2000, applicable to workers of Hagale Industries, Inc., Salem, Missouri. The notice was published in the Federal Register on August 1, 2000 (65 FR 46954).

At the request of the petitioners, the Department reviewed the certification for workers of the subject firm. Information shows that worker separations occurred at the Ozark, Missouri location of Hagale Industries, Inc. The Ozark, Missouri workers are engaged in the production of men's dress slacks and provide administrative support function services to support the subject firm's many other production facilities.

Accordingly, the Department is amending the certification to include workers of Hagale Industries, Inc., Ozark, Missouri.

The intent of the Department's certification is to include all workers of Hagale Industries, Inc. who were adversely affected by increased imports.

The amended notice applicable to TA-W-37,675 is hereby issued as follows:

All workers of Hagale Industries, Inc., Salem Missouri (TA-W-37,675) and Ozark, Missouri (TA-W-37,675A) who became totally or partially separated from employment on or after April 26, 1999 through July 7, 2002 are eligible to apply for adjustment assistance under Section 223 of the Trade Act of 1974.

Signed at Washington, DC this 23rd day of August, 2000.
Edward A. Tomchick,
Director, Division of Trade Adjustment Assistance.

[FR Doc. 00-22763 Filed 9-5-00; 8:45 am]

BILLING CODE 4510-30-M